DEPARTMENT OF TRANSPORTATION

Federal Aviation Administration

14 CFR Part 39

[Docket No. FAA-2015-2048; Directorate Identifier 2015-CE-015-AD]

RIN 2120-AA64

Airworthiness Directives; British Aerospace Regional Aircraft Airplanes

AGENCY: Federal Aviation Administration (FAA), Department of Transportation (DOT).

ACTION: Notice of proposed rulemaking (NPRM).

SUMMARY: We propose to adopt a new airworthiness directive (AD) for British Aerospace Regional Aircraft Jetstream Series 3101 and Jetsream Model 3201 airplanes. This proposed AD results from mandatory continuing airworthiness information (MCAI) originated by an aviation authority of another country to identify and correct an unsafe condition on an aviation product. The MCAI describes the unsafe condition as missing countersunk washers under the head of the main landing gear trunnion cap tension bolts that could cause fatigue in the bolt shanks. We are issuing this proposed AD to require actions to address the unsafe condition on these products.

DATES: We must receive comments on this proposed AD by July 24, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-2048; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Comments Invited

We invite you to send any written relevant data, views, or arguments about this proposed AD. Send your comments to an address listed under the ADDRESSES section. Include “Docket No. FAA-2015-2048; Directorate Identifier 2015-CE-015-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2015-0061, dated April 20, 2015 (referred to after this as “the MCAI”), to correct an unsafe condition for the specified products. The MCAI states:

The review of the BAE production drawing for main landing gear (MLG) fitting installation identified a risk of omitting installation of a countersunk washer under the head of the MLG trunnion cap tension bolts, potentially causing fatigue in the bolt shank under the head of such tension bolt(s).

This condition, if not detected and corrected, could lead to failure of the bolt(s), thereby compromising the structural integrity of the other MLG tension bolts holding the MLG in place, possibly resulting in collapse of the MLG on take-off or landing with consequent damage to the aeroplane and injury to occupants.

Although so far, no in-service bolt head failures have been reported since entry in to service of the type design in 1986, to address this potential unsafe condition, BAE Systems (Operations) Ltd issued Service Bulletin (SB) 57-JA120141 to provide inspection instructions.

For the reasons described above, this AD requires inspection and, depending on findings, replacement of the MLG trunnion cap tension bolts.

You may examine the MCAI on the Internet at http://www.regulations.gov by searching for and locating Docket No. FAA-2015-2048.

Related Service Information Under 1 CFR Part 51

British Aerospace Regional Aircraft has issued British Aerospace Jetstream Series 3100 & 3200 Service Bulletin 57-JA120141, REVISION 1, dated April 8, 2014. The service information describes procedures for inspection and replacement of main landing gear trunnion cap tension bolts. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 66 products of U.S. registry. We also estimate that it would take about 6 work-hours per product to comply with the basic requirements of this proposed AD. The average labor rate is $85 per work-hour.

Based on these figures, we estimate the cost of the proposed AD on U.S. operators to be $33,660, or $510 per product.

In addition, we estimate that any necessary follow-on actions would take about 1 work-hour and require parts costing $1,200, for a cost of $1,285 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

British Aerospace Regional Aircraft: Docket No. FAA-2015-2048; Directorate Identifier 2015-CE-015-AD.

(a) Comments Due Date

We must receive comments by July 24, 2015.

(b) Affected ADs

None.

(c) Applicability

This AD applies to British Aerospace Regional Aircraft Jetstream Series 3101 and Jetsream Model 3201 airplanes, all serial numbers, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as missing countersunk washers under the head of the main landing gear (MLG) trunnion cap tension bolts that could cause fatigue in the bolt shanks. We are issuing this AD to detect and correct missing countersunk washers, which could lead to failure of the bolt(s), thereby compromising the structural integrity of the other MLG tension bolts holding the MLG in place, possibly resulting in collapse of the MLG on take-off or landing with consequent damage to the airplane and injury to occupants.

(f) Actions and Compliance

Unless already done, do the actions in paragraphs (f)(1) through (f)(4) of this AD, including all subparagraphs, following the Accomplishment Instructions in British Aerospace Jetstream Series 3100 & 3200 Service Bulletin 57-JA120141, REVISION 1, dated April 8, 2014:

(1) This AD allows credit for the actions required in paragraphs (f)(3) and (f)(4), including all subparagraphs, of this AD if done before the effective date of this AD following the Accomplishment Instructions of British Aerospace Jetstream Series 3100 & 3200 Service Bulletin 57-JA120141, Original Issue, dated: July 31, 2012.

(2) For the purposes of this AD, owner/operators who do not track total flight cycles (FC), multiply the total number of airplane hours time-in-service by 0.75 to calculate the FC.

(3) For Pre-Mod JM5218 airplanes: Within 250 FC after the effective date of this AD, do a magnetic particle inspection (MPI) of each MLG trunnion cap tension bolt.

(i) If no crack is found during the MPI required by paragraph (f)(1) of this AD, before further flight, either re-install the crack-free bolt(s) or install a replacement bolt(s) having the same part number (P/N) as the original bolt. Install a countersunk washer under the bolt(s) ensuring the washer P/N is applicable to the diameter bolt installed as specified in figure 1 of paragraph (f)(3)(i) of this AD.

Bolt P/N | Washer P/N
MS21250H06040 | PKS1000-6-2-S (washer).
MS21250H07040 | PKS1000-7-2-S (washer).

Figure 1 of paragraph (f)(3)(i)—Pre-Mod JM5218 Replacement Parts

(ii) If a cracked bolt is found during the inspection required by paragraph (f)(3) of this AD, before further flight, replace each cracked bolt with a replacement bolt having the same P/N as the original bolt. Install a countersunk washer under the bolt ensuring the washer P/N is applicable to the diameter bolt installed as specified in figure 1 of paragraph (f)(3)(i) of this AD.

(4) For Post-Mod JM5218 airplanes: Visually inspect each MLG trunnion cap tension bolt to determine which type of bolt is installed.

(i) If it is determined the installed bolts are P/N MS21134H07045 or P/N MS21134H07059 during the inspection required in paragraph (f)(4) of this AD, before further flight (except as specified in paragraph (f)(4)(i)(A) of this AD), replace each `old' bolt P/N with a `new' bolt P/N as specified in figure 2 of paragraph (f)(4)(i) of this AD and install a washer having P/N PKS1000-7-2-S under each bolt.

Bolt P/N `Old' | Bolt P/N `New'
MS21134H07045 | MS21134H07046, or MS21250H07046.
MS21134H07059 | MS21134H07060, or MS21250H07060.

Figure 2 of paragraph (f)(4)(i)—Post-Mod JM5218 Replacement Parts

(A) If no `new' replacement bolt is available to comply with paragraph (f)(4)(i) of this AD, the `old' bolt may be reinstalled without a countersunk washer, provided that within 500 FC after reinstallation and repetitively thereafter at intervals not to exceed 500 FC, each affected bolt is inspected by MPI.

(B) Within 2,000 FC after reinstallation of a bolt as allowed by paragraph (f)(4)(i)(A) of this AD or before further flight if a crack was found during any MPI as required by paragraph (f)(4)(i)(A) of this AD, whichever occurs first, replace the `old' bolt P/N with a `new' bolt P/N as specified in figure 2 of paragraph (f)(4)(i) of this AD and install a washer having P/N PKS1000-7-2-S under each bolt.

(ii) If it is determined the installed bolts are P/N MS21250H07046 or P/N MS21250H07060 and no countersunk washer is installed during the inspection required in paragraph (f)(4) of this AD, before further flight, do an MPI of each MLG trunnion cap tension bolt.

(A) If no crack is found during the MPI required by paragraph (f)(4)(ii) of this AD, before further flight, either re-install the crack-free bolts or install replacement bolts having a `new' bolt P/N as specified in figure 2 of paragraph (f)(4)(i) of this AD and install a countersunk washer P/N PKS1000-7-2-S under each bolt.

(B) If any crack is found during the MPI required by paragraph (f)(4)(ii) of this AD, before further flight, replace each cracked bolt with a serviceable one having a `new' bolt P/N as specified in figure 2 of paragraph (f)(4)(i) of this AD and install a countersunk washer P/N PKS1000-7-2-S under each bolt.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0061, dated April 20, 2015; and British Aerospace Jetstream Series 3100 & 3200 Service Bulletin 57-JA120141, Original Issue, dated: July 31, 2012, for related information. You may examine the MCAI on the Internet at http://www.regulations.gov by searching for and locating Docket No. FAA-2015-2048. For service information related to this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review this referenced service information at the FAA, Small Airplane Directorate, 901 Locust, Kansas City, Missouri 64106. For information on the availability of this material at the FAA, call (816) 329-4148.

Issued in Kansas City, Missouri, on June 1, 2015.
Earl Lawrence,
Manager, Small Airplane Directorate, Aircraft Certification Service.

[FR Doc. 2015-13918 Filed 6-8-15; 8:45 am]

BILLING CODE 4910-13-P